DEPARTMENT OF HOMELAND SECURITY

Coast Guard

33 CFR Part 100

[Docket No. USCG-2012-0247]

Annual Marine Events in the Eighth Coast Guard District, Smoking the Sound; Biloxi Ship Channel; Biloxi, MS

AGENCY: Coast Guard, DHS.

ACTION: Notice of enforcement of regulation.

SUMMARY: The Coast Guard will enforce Special Local Regulations for the Smoking the Sound boat races in the Biloxi Ship Channel, Biloxi, MS from 8 a.m. until 6 p.m. on April 28 and April 29, 2012. This action is necessary for the safeguard of participants and spectators, including all crews, vessels, and persons on navigable waters during the Smoking the Sound boat races. During the enforcement period, entry into, transiting or anchoring in the regulated area is prohibited to all vessels not registered with the sponsor as participants or official patrol vessels, unless specifically authorized by the Captain of the Port (COTP) Mobile or the designated Coast Guard Patrol Commander.

DATES: The regulations in 33 CFR 100.801 will be enforced from 8 a.m. until 6 p.m. on April 28 and April 29, 2012.

FOR FURTHER INFORMATION CONTACT: If you have questions on this notice of enforcement, call or email LT Lenell J. Carson, Coast Guard Sector Mobile, Waterways Division; telephone 251-441-5940 or email Lenell.J.Carson@uscg.mil.

SUPPLEMENTARY INFORMATION: The Coast Guard will enforce the Special Local Regulations for the annual Smoking the Sound event listed in 33 CFR 100.801 (Table 1, VII. Sector Mobile, #154) on April 28 and 29, 2012 from 8 a.m. until 6 p.m.

Under the provisions of 33 CFR 100.801, all persons and vessels not registered with the sponsor as participants or official patrol vessels are considered spectators. The “official patrol vessels” consist of any Coast Guard, state or local law enforcement and sponsor provided vessels assigned or approved by the Commander, Eighth Coast Guard District, to patrol the event. Spectator vessels desiring to transit the regulated area may do so only with prior approval of the Patrol Commander and when so directed by that officer and will be operated at slowest safe speed in a manner which will not endanger participants in the event or any other craft. No spectator shall anchor, block, loiter, or impede the through transit of participants or official patrol vessels in the regulated area during the effective dates and times, unless cleared for entry by or through an official patrol vessel. The Patrol Commander may forbid and control the movement of all vessels in the regulated area. When hailed or signaled by an official patrol vessel, a vessel shall come to an immediate stop and comply with the directions given. Failure to do so may result in expulsion from the area, citation for failure to comply, or both. Any spectator vessel may anchor outside the regulated area, but may not anchor in, block, or loiter in a navigable channel. The Patrol Commander may terminate the event or the operation of any vessel at any time it is deemed necessary for the protection of life or property. The Patrol Commander will terminate enforcement of the special regulations at the conclusion of the event.

This notice is issued under authority of 33 CFR 100.35, 33 U.S.C. 1233, and 5 U.S.C. 552(a). In addition to this notice in the Federal Register, the Coast Guard will provide the maritime community with advance notification of this enforcement period via Local Notice to Mariners and Marine Information Broadcasts.

If the Captain of the Port Mobile or Patrol Commander determines that the regulated area need not be enforced for the full duration stated in this notice of enforcement, he or she may use a Broadcast Notice to Mariners to grant general permission to enter the regulated area.

Dated: March 27, 2012.
D.J. Rose,
Captain, U.S. Coast Guard, Captain of the Port Mobile.

[FR Doc. 2012-9381 Filed 4-17-12; 8:45 am]

BILLING CODE 9110-04-P